DEPARTMENT OF HEALTH AND HUMAN SERVICES

Centers for Disease Control and Prevention

Informational Meeting: The Importation and Exportation of Infectious Biological Agents, Infectious Substances and Vectors; Public Webcast

AGENCY: Centers for Disease Control and Prevention (CDC), Department of Health and Human Services (HHS).

ACTION: Notice of public webcast.

SUMMARY: The Centers for Disease Control and Prevention (CDC), Department of Health and Human Services (HHS) is hosting a public webcast which will include representatives from the U.S. Department of Transportation, USDA Animal and Plant Health Inspection Services, CDC Division of Global Migration and Quarantine, U.S. Customs and Border Protection, U.S. Department of Commerce, U.S. Food and Drug Administration, HHS/Office of the Assistant Secretary for Preparedness and Response/Biomedical Advanced Research and Development Authority. This public webcast will address import and export regulations for infectious biological agents, infectious substances, and vectors, and import and export exemptions. The purpose of this notice is to inform all interested parties, including those individuals and entities already possessing an import or export permit (or license) of the webcast.

DATES: The webcast will be held on September 16, 2015 from 11 a.m. to 4 p.m. EDT. Registration instructions are found on the HHS/CDC's Import Permit Program Web site, http://www.cdc.gov/od/eaipp/importApplication/agents.htm.

ADDRESSES: The webcast will be broadcast from the Centers for Disease Control and Prevention, 1600 Clifton Road NE., Atlanta, Georgia 30329.

FOR FURTHER INFORMATION CONTACT: Von McClee, Division of Select Agents and Toxins, Office of Public Health Preparedness and Response, Centers for Disease Control and Prevention, 1600 Clifton Road NE., MS A-46, Atlanta, GA 30333; phone: 404-718-2000; email: lrsat@cdc.gov.

SUPPLEMENTARY INFORMATION: This webcast is an opportunity for the regulated community (i.e., academic institutions and biomedical centers, commercial manufacturing facilities, federal, state, and local laboratories, including clinical and diagnostic laboratories, research facilities, exhibition facilities, and educational facilities) and other interested individuals to obtain specific regulatory guidance and information regarding import and export regulations. The webcast will also provide assistance to those interested in applying for an import or export permit (or license) from federal agencies within the United States.

Instructions for registration are found on the HHS/CDC's Import Permit Program Web site, http://www.cdc.gov/od/eaipp/importApplication/agents.htm. Participants must register by September 2, 2015. This is a webcast only event and there will be no on-site participation at the HHS/CDC broadcast facility.

Dated: July 15, 2015.
Pamela J. Cox,
Director, Division of the Executive Secretariat, Centers for Disease Control and Prevention.

[FR Doc. 2015-17735 Filed 7-17-15; 8:45 am]

BILLING CODE 4163-18-P